DEPARTMENT OF TRANSPORTATION

Federal Aviation Administration

Notice of Extension of Comment Period for Draft Environmental Assessment (EA) for the Proposed Part 139 Operating Certificate and Related Actions and Notice for Public Hearing at Paulding Northwest Atlanta Airport

AGENCY: Federal Aviation Administration (FAA), DOT.

ACTION: Notice of extension of comment period.

SUMMARY: The FAA is extending the comment period for the Draft Environmental Assessment for the Proposed Part 139 Operating Certificate and Related Actions. In response to community requests, FAA is extending the comment period for 30 days, from December 11, 2015, to January 10, 2016.

DATES: The comment period for the proposed Draft EA made available for public review on October 20, 2015 is extended. Comments on the document must be received on or before January 10, 2016.

ADDRESSES: Any person desiring to review the Draft EA and to comment on the document may do so at the following locations: Paulding Northwest Atlanta Airport, 730 Airport Parkway, Dallas, Georgia 30157 or Paulding County Library, 1010 Memorial Drive East, Dallas, Georgia 30132.

FOR FURTHER INFORMATION CONTACT: Lisa Favors, Environmental Program Manager, Atlanta Airports District Office, 1701 Columbia Ave., Suite 220, Atlanta, GA 30337-2747, (404) 305-6744, Lisa.Favors@faa.gov.

SUPPLEMENTARY INFORMATION: The FAA is hereby extending the comment period for the following notice to allow the community more time to develop and submit their comments.

In the notice that issued in the Federal Register on October 22, 2015, entitled “Notice of Availability for Draft EA for the Proposed Part 139 Operating Certificate and Related Actions and Notice for Public Hearing at Paulding Northwest Atlanta Airport”, the FAA sought public comment on the Draft EA. The end of the comment period is hereby being extended from December 11, 2015 to January 10, 2016.

Comments can also be made online via the following Web sites:

Paulding Northwest Atlanta Airport: www.pauldingairport.com

Paulding County, Georgia: www.paulding.gov

Issued in Atlanta, Georgia, on November 24, 2015.
Larry F. Clark,
Manager, Atlanta Airports District Office, Southern Region.

[FR Doc. 2015-30588 Filed 12-4-15; 8:45 am]

BILLING CODE 4910-13-P